DEPARTMENT OF ENERGY

Federal Energy Regulatory Commission

[Docket No. ER02-2317-001, et al.]

Delano Energy Company, Inc., et al.; Electric Rate and Corporate Regulation Filings

November 4, 2002.

The following filings have been made with the Commission. The filings are listed in ascending order within each docket classification.

1. Delano Energy Company, Inc.

[Docket No. ER02-2317-001]

Take notice that on October 30, 2002, Delano Energy Company, Inc. Tendered for filing with the Federal Energy Regulatory Commission (Commission) a refund report in compliance with a letter order dated August 30, 2002 issued in the above-proceeding.

Comment Date: November 20, 2002.

2. Southwest Power Pool, Inc.

[Docket Nos. ER02-2367-001]

Take notice that on October 28 2002, Southwest Power Pool, Inc. (SPP) submitted for filing a compliance filing required by the Federal Energy Regulatory Commission's (Commission) September 27, 2002 Order issued in the proceeding listed above. Southwest Power Pool, Inc., 100 FERC ¶61,358 (2002).

Comment Date: November 18, 2002.

3. CenterPoint Energy Houston Electric,

[LLC Docket No. ER02-2555-001]

Take notice that on October 30, 2002, CenterPoint Energy Houston Electric, LLC (CenterPoint Houston) tendered for filing with the Federal Energy Regulatory Commission (Commission) an errata to its September 16, 2002, filing of a revised Transmission Service Tariff for Transmission Service To, From and Over Certain Interconnection (TFO Tariff) in the captioned proceeding, adding the word “Energy” in the name of CenterPoint Energy Houston Electric, LLC, to Section 1.3 on Original Sheet No. 7 of the revised TFO Tariff (CenterPoint Houston's FERC Electric Tariff, Fifth Revised Volume No. 1).

Comment Date: November 20, 2002.

4. Pacific Gas and Electric Company

[Docket No. ER03-94-000]

Take notice that on October 30, 2002, Pacific Gas and Electric Company (PG&E) submitted an information package and annual rate update filing, including rate schedule sheet revisions, to become effective January 1, 2003, for its Reliability Must-Run Service Agreements (RMR Agreements) with the California Independent System Operator Corporation (ISO) for Helms Power Plant, Humboldt Bay Power Plant, Hunters Point Power Plant and San Joaquin Power Plant. The filing revises portions of these rate schedules and adjusts the applicable rates as required under the RMR Agreements.

Copies of PG&E's filing have been served upon the ISO, the California Electricity Oversight Board, and the California Public Utilities Commission.

Comment Date: November 20, 2002.

5. American Electric Power Service Corporation

[Docket No. ER03-95-000]

Take notice that on October 30, 2002, the American Electric Power Service Corporation (AEPSC), tendered for filing with the Federal Energy Regulatory Commission (Commission) Specifications for Long-Term Firm PTP Transmission Service for Duke Energy Trading and Marketing, L.L.C. These agreements are pursuant to the AEP Companies' Open Access Transmission Tariff (OATT) that has been designated as the Operating Companies of the American Electric Power System FERC Electric Tariff Third Revised Volume No. 6.

AEPSC requests waiver of notice to permit the Specifications for Long-Term Firm PTP Transmission Service to be effective on and after June 1, 2002.

A copy of the filing was served upon the Parties and the state utility regulatory commissions of Arkansas, Indiana, Kentucky, Louisiana, Michigan, Ohio, Oklahoma, Tennessee, Texas, Virginia and West Virginia.

Comment Date: November 20, 2002.

6. Ameren Services Company

[Docket No. ER03-96-000]

Take notice that on October 30, 2002, Ameren Services Company (ASC) tendered for filing with the Federal Energy Regulatory Commission (Commission) an executed Firm Point-to-Point Transmission Services between ASC and Ameren Energy, Inc. ASC asserts that the purpose of the Agreement is to permit ASC to provide transmission service to Ameren Energy, Inc. pursuant to Ameren's Open Access Transmission Tariff.

Comment Date: November 20, 2002.

7. Ameren Services Company

[Docket No. ER03-97-000]

Take notice that on October 30, 2002, Ameren Services Company (ASC) tendered for filing with the Federal Energy Regulatory Commission (Commission) an unexecuted Firm Point-to-Point Transmission Services between ASC and Cinergy Services Inc. acting as agent for Southwestern Electric Cooperative, Inc. ASC asserts that the purpose of the Agreement is to permit ASC to provide transmission service to Cinergy Services Inc. acting as agent for Southwestern Electric Cooperative, Inc. pursuant to Ameren's Open Access Transmission Tariff.

Comment Date: November 20, 2002.

8. West Penn Power Company (dba Allegheny Power)

[Docket No. ER03-98-000]

Take notice that on October 30, 2002, West Penn Power Company, dba Allegheny Power, filed Addenda to its Electric Service Agreement with PPL Electric Utilities Corporation, formerly Pennsylvania Power & Light Company, to add three delivery points. An effective date for the new delivery points of October 31, 2002 is requested.

Copies of the filing have been provided to the customer, the Public Utilities Commission of Ohio, the Pennsylvania Public Utility Commission, the Maryland Public Service Commission, the Virginia State Corporation Commission, and the West Virginia Public Service Commission.

Comment Date: November 20, 2002.

9. Just Energy New York Texas, LLC

[Docket No. ER03-99-000]

Take notice that on October 30, 2002, Just Energy New York, LLC (Just Energy New York) tendered for filing with the Federal Energy Regulatory Commission (Commission) a petition for acceptance of Just Energy New York Rate Schedule FERC No. 1; the granting of certain blanket approvals, including the authority to sell electricity at market-based rates; and the waiver of certain Commission regulations.

Just Energy New York intends to engage in wholesale electric power and energy purchases and sales as a marketer. Just Energy New York is not in the business of generating or transmitting electric power. Just Energy New York sells electricity to customers in various deregulated states.

Comment Date: November 20, 2002.

10. Just Energy Texas, LLC

[Docket No. ER03-100-000]

Take notice that on October 30, 2002, Just Energy Texas, LLC (Just Energy Texas) petitioned the Commission for acceptance of Just Energy Texas Rate Schedule FERC No. 1; the granting of certain blanket approvals, including the authority to sell electricity at market-based rates; and the waiver of certain Commission regulations.

Just Energy Texas intends to engage in wholesale electric power and energy purchases and sales as a marketer. Just Energy Texas is not in the business of generating or transmitting electric power. Just Energy Texas sells electricity to customers in various deregulated states.

Comment Date: November 20, 2002.

11. Premier Energy Marketing L.L.C.

[Docket No. ER03-101-000]

Take notice that on October 30, 2002, Premier Energy Marketing L.L.C. (PEM) tendered for filing with the Federal Energy Regulatory Commission (Commission) a petition for acceptance of PEM Rate Schedule FERC No. 1; the granting of certain blanket approvals, including the authority to sell electricity at market-based rates; and the waiver of certain Commission regulations.

PEM intends to engage in wholesale electric power and energy purchases and sales as a marketer. PEM is not in the business of generating or transmitting electric power. PEM is owned by its officers and Everest Energy Management LLC which is engaged in oil and gas production and independent power production.

Comment Date: November 20, 2002.

12. Idaho Power Company

[Docket No. ER03-102-000]

Take notice that on October 30, 2002, Idaho Power Company (Idaho Power) tendered for filing an Agreement for Load Following Services (Agreement) between North Western Energy, L.L.C. (NWE) and Idaho Power, dated October 15, 2002. Idaho Power seeks an effective date of January 1, 2003 for the Agreement. Included in the filing was a Certificate of Concurrence executed by NWE assenting to the filing of the Agreement.

Comment Date: November 20, 2002.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-28729 Filed 11-8-02; 8:45 am]

BILLING CODE 6717-01-P